DEPARTMENT OF THE INTERIOR

National Park Service

[NPS-WASO-NAGPRA-NPS0027667; PPWOCRADN0-PCU00RP14.R50000]

Notice of Inventory Completion: U.S. Department of the Interior, Bureau of Land Management, Alaska State Office, Anchorage, AK

AGENCY: National Park Service, Interior.

ACTION: Notice.

SUMMARY: The U.S. Department of the Interior, Bureau of Land Management (BLM), Alaska State Office, with the assistance of the University of Oregon Museum of Natural and Cultural History, has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the BLM, Alaska State Office. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the BLM Alaska State Office at the address in this notice by May 30, 2019.

ADDRESSES: Dr. Robert King, BLM-Alaska State NAGPRA Coordinator, 222 West 7th Avenue, Box 13, Anchorage, AK 99513-7599, telephone (907) 271-5510, email r2king@blm.gov.

SUPPLEMENTARY INFORMATION: Notice is here given in accordance with the Native American Graves Protection and Repatriation Act (NAGPRA), 25 U.S.C. 3003, of the completion of an inventory of human remains under the control of the U.S. Department of Interior, Bureau of Land Management, Alaska State Office, Anchorage, AK. The human remains were removed from a location near the entrance to Goodnews Bay, Bethel Census Area, AK, on land at the time administered by the General Land Office, for which BLM is the administrative descendant Federal agency.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made on behalf of the BLM by the University of Oregon Museum of Natural and Cultural History professional staff in consultation with representatives of the Native Village of Goodnews Bay.

History and Description of the Remains

In 1934, human remains representing, at minimum, one individual were removed by an unknown person from a village site at a south spit near the entrance to Goodnews Bay, in the Bethel Census Area, AK. The human remains were transferred to the University of Oregon Museum of Natural and Cultural History by the University of Oregon Medical School's Department of Anatomy in 1953 (cat. # 11-299). An accompanying note indicated, “Found at village site, south spit, near entrance to Goodnews Bay, Alaska, 1934.” The human remains represent a single adult individual of indeterminate sex, between 30-40 years old at the time of death. No known individuals were identified. No associated funerary objects are present.

Historical documents, ethnographic sources, and oral history indicate that the Yupik Eskimo peoples have occupied the area of Goodnews Bay since pre-contact times. Based on archaeological context and skeletal evidence, the individual above was determined to be of Native American ancestry, of possible Yupik Eskimo cultural affiliation.

Determinations Made by the Bureau of Land Management, Alaska State Office

Officials of the Bureau of Land Management, Alaska State Office, have determined that:

• Pursuant to 25 U.S.C. 3001(9), the human remains described in this notice represent the physical remains of one individual of Native American ancestry.

• Pursuant to 25 U.S.C. 3001(2), there is a relationship of shared group identity that can be reasonably traced between the Native American human remains and the Native Village of Goodnews Bay.

Additional Requestors and Disposition

Lineal descendants or representatives of any Indian Tribe or Native Hawaiian organization not identified in this notice that wish to request transfer of control of these human remains should submit a written request with information in support of the request to Dr. Robert King, BLM-Alaska State NAGPRA Coordinator, 222 West 7th Avenue, Box 13, Anchorage, AK 99513-7599, telephone (907) 271-5510, email r2king@blm.gov, by May 30, 2019. After that date, if no additional requestors have come forward, transfer of control of the human remains to the Native Village of Goodnews Bay may proceed.

The Bureau of Land Management, Alaska State Office, is responsible for notifying the Native Village of Goodnews Bay that this notice has been published.

Dated: April 9, 2019.
Melanie O'Brien,
Manager, National NAGPRA Program.

[FR Doc. 2019-08743 Filed 4-29-19; 8:45 am]

BILLING CODE 4312-52-P